DEPARTMENT OF THE TREASURY

Internal Revenue Service

Advisory Group to the Internal Revenue Service; Tax Exempt and Government Entities Division (TE/GE); Meeting

AGENCY: Internal Revenue Service (IRS), Treasury.

ACTION: Notice.

SUMMARY: The Advisory Committee on Tax Exempt and Government Entities (ACT) will hold a public meeting on Wednesday, June 8, 2005.

FOR FURTHER INFORMATION CONTACT: Steven J. Pyrek, Director, Communications and Liaison, 1111 Constitution Ave., NW., SE:T:CL—Penn Bldg, Washington, DC 20224. Telephone: 202-283-9966 (not a toll-free number). E-mail address: Steve.J.Pyrek@irs.gov.

SUPPLEMENTARY INFORMATION: By notice herein given, pursuant to section 10(a)(2) of the Federal Advisory Committee Act, 5 U.S.C. App. (1988), a public meeting of the ACT will be held on Wednesday, June 8, 2005, from 9 a.m. to 2 p.m., at the Internal Revenue Service, 1111 Constitution Ave., NW., Room 3313, Washington, DC. Issues to be discussed relate to Employee Plans, Exempt Organizations, and Government Entities.

Reports from four ACT subgroups cover the following topics:

• Survey and Review of Existing Information and Guidance for Indian Tribal Governments.

• Record Retention Burden for Tax-Exempt Bonds.

• Establishing the Enrolled Retirement Plan Agent Under Circular 230.

• Improving Compliance of Newly Created Charities.

Last minute agenda changes may preclude advance notice. Due to limited seating and security requirements, attendees must call Cynthia PhillipsGrady to confirm their attendance.

Ms. PhillipsGrady can be reached at (202) 283-9954. Attendees are encouraged to arrive at least 30 minutes before the meeting begins to allow sufficient time for security clearance. Picture identification must be presented. Please use the main entrance at 1111 Constitution Ave., NW., to enter the building.

Should you wish the ACT to consider a written statement, please call (202) 283-9966, or write to: Internal Revenue Service, 1111 Constitution Ave., NW., SE:T:CL-Penn Bldg, Washington, DC 20224, or e-mail Steve.J.Pyrek@irs.gov.

Dated: May 18, 2005.
Steven J. Pyrek,
Designated Federal Official, Tax Exempt and Government Entities Division.

[FR Doc. E5-2599 Filed 5-23-05; 8:45 am]

BILLING CODE 4830-01-P